DEPARTMENT OF HEALTH AND HUMAN SERVICES

Centers for Disease Control and Prevention

A National Elastomeric Half Mask Respirator (EHMR) Strategy for Use in Healthcare Settings During an Infectious Disease Outbreak/Pandemic

AGENCY: National Institute for Occupational Safety and Health (NIOSH) of the Centers for Disease Control and Prevention (CDC), Department of Health and Human Services (HHS).

ACTION: Extension of comment period.

SUMMARY: On September 14, 2020, the National Institute for Occupational Safety and Health (NIOSH), within the Centers for Disease Control and Prevention (CDC), published a request for information to obtain public input on the deployment and use of elastomeric half mask respirators in healthcare settings and emergency medical services (EMS) organizations during the COVID-19 crisis. Comments were to be received by October 14, 2020. NIOSH is extending the comment period to close on December 14, 2020, to allow stakeholders and other interested parties additional time to respond.

DATES: The comment period for the document published on September 14, 2020 (85 FR 56618) is extended. Comments must be received on or before December 14, 2020.

ADDRESSES: Responses should be submitted to Dr. Lee Greenawald, NIOSH, 626 Cochrans Mill Road, Building 141, Pittsburgh, PA 15236, or ppeconcerns@cdc.gov.

FOR FURTHER INFORMATION CONTACT: Lee Greenawald, NIOSH, 626 Cochrans Mill Road, Building 141, Pittsburgh, PA 15236; phone: (412) 386-6465 (not a toll-free number); email: ppeconcerns@cdc.gov.

SUPPLEMENTARY INFORMATION: NIOSH published a notice requesting public input and potential participation in a nationwide deployment program for elastomeric half mask respirators in healthcare settings and first responder organizations in the Federal Register on September 14, 2020 (85 FR 56618). This notice announces the extension of the comment period until December 14, 2020.

John J. Howard,
Director, National Institute for Occupational Safety and Health, Centers for Disease Control and Prevention, Department of Health and Human Services.

[FR Doc. 2020-22537 Filed 10-9-20; 8:45 am]

BILLING CODE 4163-18-P